DEPARTMENT OF DEFENSE

Defense Acquisition Regulations System

48 CFR Part 205

Publicizing Contract Actions

CFR Correction

205.470 [Corrected]

In Title 48 of the Code of Federal Regulations, Chapter 2 (Parts 201—299), revised as of October 1, 2011, on page 38, in section 205.470, the first sentence is corrected by removing “$1,000,000,000” and adding, in its place, “$1,000,000”.

[FR Doc. 2012-23901 Filed 9-26-12; 8:45 am]

BILLING CODE 1505-01-D